DEPARTMENT OF HEALTH AND HUMAN SERVICES

Health Resources and Services Administration

Poison Control Program

AGENCY: Health Resources and Services Administration, HHS.

ACTION: Notice of Non-Competitive Replacement Awards to the Nationwide Children's Hospital, Inc., and the Children's Hospital Medical Center.

SUMMARY: HRSA will transfer funds and duties from the University Hospitals of Cleveland to the Nationwide Children's Hospital, Inc., d.b.a., the Central Ohio Poison Center and the Children's Hospital Medical Center, d.b.a., the Cincinnati Drug and Poison Information Center. These transfers are necessary in order to maintain poison control services and education efforts throughout the State of Ohio.

SUPPLEMENTARY INFORMATION: Former Grantee of Record: University Hospitals of Cleveland (Grant #H4BHS15469) is the former grantee.

Original Period of Grant Support is from: September 1, 2009, to August 31, 2014.

Replacement Awardees: Nationwide Children's Hospital, Inc. (Grant #H4BHS15471) and the Children's Hospital Medical Center (Grant #H4BHS15468) are the replacement awardees.

Period of Replacement Awards: The period of support for the replacement awards is March 1, 2014, to August 31, 2014.

Amount of Replacement Awards is as follows:

• University Hospitals of Cleveland d.b.a. the Greater Cleveland Poison Control Center (H4BHS15469) will transfer $89,436 to the Nationwide Children's Hospital, Inc., d.b.a., the Central Ohio Poison Center (H4BHS15471); and

• University Hospitals of Cleveland d.b.a. the Greater Cleveland Poison Center (H4BHS15469) will transfer $89,436 to the Children's Hospital Medical Center, d.b.a., the Cincinnati Drug and Poison Information Center (H4BHS15468)

Authority: Section 1273 of the Public Health Service Act, (42 U.S.C. 300d-73), as amended by the Poison Center Support, Enhancement, and Awareness Act of 2008.

CFDA Number: 93.253.

Justification: The poison centers operated by the Nationwide Children's Hospital, Inc., and the Children's Hospital Medical Center currently provide poison center services to the citizens of Ohio, 24 hours a day, 7 days a week. These services include telephone treatment advice and consultation about toxic exposures for both the public and health care professionals and toxico and public health surveillance. Educators at the centers provide public education about poison prevention and clinical toxicology training for many different healthcare professionals. The centers also offer programs to help clinicians better manage poisoning and overdose cases that end up in a healthcare facility.

These centers have the capacity to provide poison control service to the area formerly served by the University Hospitals of Cleveland, ensuring access to critical poison emergency treatment and poison prevention information statewide, and to fulfill the expectations of the original funded application. These replacement grants will support the grantees' abilities to provide poison center services to the state's entire population with the least amount of disruption.

The State of Ohio has determined that the Nationwide Children's Hospital, Inc. and the Children's Hospital Medical Center are the best qualified grantees for this award. On February 19, 2014, the state provided HRSA with a letter designating the two centers as the official poison centers of Ohio and assigning them each 50 percent of Ohio's service areas.

FOR FURTHER INFORMATION CONTACT: Poison Control Program, Director, Elisa Gladstone, via email at Egladstone@hrsa.gov or via telephone at 301.594.4394.

Dated: May 21, 2014.
Mary K. Wakefield,
Administrator.

[FR Doc. 2014-12319 Filed 5-27-14; 8:45 am]

BILLING CODE 4165-15-P